NUCLEAR REGULATORY COMMISSION

10 CFR Part 50

RIN 3150-AH95

Criticality Control of Fuel Within Dry Storage Casks or Transportation Packages in a Spent Fuel Pool; Confirmation of Effective Date

AGENCY: Nuclear Regulatory Commission.

ACTION: Direct final rule: Confirmation of effective date.

SUMMARY: The Nuclear Regulatory Commission (NRC) is confirming the effective date of January 30, 2007, for the direct final rule that was published in the Federal Register on November 16, 2006 (71 FR 66648). This direct final rule amended the NRC's regulations that govern domestic licensing of production and utilization facilities so that the requirements governing criticality control for spent fuel pool storage racks do not apply to the fuel within a spent fuel transportation package or storage cask when a package or cask is in a spent fuel pool. These packages and casks are subject to separate criticality control requirements. This action is necessary to avoid applying two different sets of criticality control requirements to fuel within a package or cask in a spent fuel pool.

DATES: Effective Date: The effective date of January 30, 2007, is confirmed for this direct final rule.

ADDRESSES: Documents related to this rulemaking, including comments received, may be examined at the NRC Public Document Room, located at One White Flint North, 11555 Rockville Pike, Rockville, MD 20852. These same documents may also be viewed and downloaded electronically via the rulemaking Web site (http://ruleforum.llnl.gov). For information about the interactive rulemaking Web site, contact Ms. Carol Gallagher (301) 415-5905; e-mail CAG@nrc.gov.

FOR FURTHER INFORMATION CONTACT: George M. Tartal, Project Manager, Office of Nuclear Reactor Regulation, U.S. Nuclear Regulatory Commission, Washington, DC 20555, telephone (301) 415-0016, e-mail gmt1@nrc.gov.

SUPPLEMENTARY INFORMATION: On November 16, 2006 (71 FR 66648), the NRC published a direct final rule amending its regulations in 10 CFR Part 50 so that the requirements governing criticality control for spent fuel pool storage racks do not apply to the fuel within a spent fuel transportation package or storage cask when a package or cask is in a spent fuel pool. In the direct final rule, NRC stated that if no significant adverse comments were received, the direct final rule would become effective on January 30, 2007. The NRC did not receive any significant adverse comments on the direct final rule, as described below. Therefore, this rule will become effective as scheduled.

The NRC received two comments during the public comment period. The first comment, submitted by the Nuclear Energy Institute on December 15, 2006, endorsed this rule change to 10 CFR 50.68 without further comment. Since the comment does not oppose the rule, this comment is not considered a significant adverse comment.

The second comment, submitted by Carolina Power & Light Company, a.k.a. Progress Energy Carolinas Inc. (PEC), on December 18, 2006, supported the rule language, commenting that “the rule wording is acceptable and technically justified, and that the Direct Final Rule should be made effective on January 30, 2007, assuming no significant adverse comments are received.” However, an additional PEC comment suggested revision or clarification to the rulemaking technical basis, presented in Appendix A to the direct final rule. More specifically, the commenter questioned the NRC staff's interpretation of 10 CFR 72.124(c), which states in part, “Underwater monitoring is not required when special nuclear material is handled or stored beneath water shielding.” The commenter also questioned the use of area radiation monitors (ARMs) as a means of complying with this regulation.

The thrust of the PEC comment is on implementation issues with the criticality safety requirements of 10 CFR 72.124(c). These requirements are used as part of the technical justification for providing adequate criticality safety under 10 CFR Part 72. The commenter discusses technical issues with the use of ARMs as a means of complying with the regulations set forth in 10 CFR 72.124(c). The NRC staff's position regarding compliance with 10 CFR 72.124(c) continues to be that ARMs may be used as the criticality monitors required by 10 CFR 72.124(c) if it can be demonstrated that the radiation monitoring system is capable of detecting any possible criticality events due to spent fuel movement to or from a dry storage cask or transportation container. The PEC comment deals with implementation of 10 CFR 72.124(c). These requirements, although used in the technical basis in this direct final rule, do not change as a result of this direct final rule.

The NRC staff reviewed the comment to determine whether it should be considered a significant adverse comment. First, the commenter specifically endorses the rule language, as presented in the direct final rule, without further comment. Second, the commenter states that the rule is adequately supported by the technical basis presented as Appendix A in the direct final rule. The comments provided do not specifically oppose the rule as written, but rather request that the NRC provide clarification on implementation considerations with the requirements of 10 CFR 72.124(c). The commenter questioned the use of ARMs to comply with this regulation. The rulemaking did not require, state, or imply that licensees must or should use ARMs as criticality monitors. The direct final rule does reference the 10 CFR 72.124(c) requirement for criticality monitoring and how criticality monitors support the technical basis for the rulemaking. However, neither the direct final rule, nor the technical basis, nor other portions of the statements of consideration rely on a specific method for how a licensee may choose to meet the requirement for criticality monitoring. Further, as stated in the paragraph above, it is the licensee's responsibility to ensure, if ARMs are used to comply with 10 CFR 72.124(c), that the ARMs are capable of performing the intended function. On this basis, the NRC staff concluded that this comment was outside the scope of the rulemaking change to 10 CFR 50.68. In addition, as a result of this comment, the NRC staff was not required to revise the rule language, technical basis, or statements of consideration for the rulemaking nor does it cause the staff to revise its regulatory position on compliance with 10 CFR 72.124(c). Therefore, the comment is not considered a significant adverse comment.

The NRC staff's responses to the public comments received provide the clarification the commenter requested. This action completes the record for this rulemaking.

Dated at Rockville, Maryland, this 22nd day of January, 2007.
For the Nuclear Regulatory Commission.
Michael T. Lesar,
Chief, Rulemaking, Directives, and Editing Branch, Division of Administrative Services, Office of Administration.

[FR Doc. E7-1260 Filed 1-25-07; 8:45 am]

BILLING CODE 7590-01-P